DEPARTMENT OF DEFENSE

Defense Acquisition Regulations System

48 CFR Parts 209, 237 and 252

[DFARS Case 2006-D051]

RIN 0750-AF80

Defense Federal Acquisition Regulation Supplement; Lead System Integrators

AGENCY: Department of Defense (DoD).

ACTION: Final rule.

SUMMARY: DoD has adopted as final, without change, an interim rule amending the Defense Federal Acquisition Regulation Supplement (DFARS) to implement Section 802 of the National Defense Authorization Act for Fiscal Year 2008. Section 802 places limitations on the award of new contracts for lead system integrator functions in the acquisition of major DoD systems.

DATES: Effective Date: January 20, 2010.

FOR FURTHER INFORMATION CONTACT: Ms. Meredith Murphy, Defense Acquisition Regulations System, OUSD(AT&L)DPAP(DARS), IMD 3D139, 3062 Defense Pentagon, Washington, DC 20301-3062. Telephone 703-602-1302; facsimile 703-602-0350, Please cite DFARS Case 2006-D051.

SUPPLEMENTARY INFORMATION:

A. Background

DoD published an interim rule at 73 FR 1823 on January 10, 2008, to implement Section 807 of the National Defense Authorization Act for Fiscal Year 2007 (Pub. L. 109-364) with regard to limitations on the performance of lead system integrator functions by DoD contractors. On January 28, 2008, Section 802 of the National Defense Authorization Act for Fiscal Year 2008 (Pub. L. 110-181) placed additional limitations on DoD's use of lead system integrators. A second interim rule was published on July 15, 2009, amending the first interim rule. One comment was received after the comment period closed. The comment concerned the definitions of lead system integrator with system responsibility and lead system integrator without system responsibility. The comment was addressed in the interim rule published on July 15, 2009.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because application of the rule is limited to contractors performing lead system integrator functions for major DoD systems.

C. Paperwork Reduction Act

The Paperwork Reduction Act does not apply because the proposed changes do not impose information collection requirements that require the approval of the Office of Management and Budget under 44 U.S.C. 3501, et seq.

List of Subjects in 48 CFR Parts 209, 237 and 252

Government procurement.

Amy G. Williams,
Editor, Defense Acquisition Regulations System.

Accordingly, the interim rule amending 48 CFR Parts 209, 237, and 252, which was published at 74 FR 34268 on July 15, 2009, is adopted as a final rule without change.

[FR Doc. 2010-888 Filed 1-19-10; 8:45 am]

BILLING CODE 5001-08-P